DEPARTMENT OF ENERGY

Federal Energy Regulatory Commission

Combined Notice of Filings #1

Take notice that the Commission received the following electric corporate filings:

Docket Numbers: EC19-57-003.

Applicants: The Vanguard Group, Inc., Vanguard Global Advisors, LLC, Vanguard Asset Management, Ltd., Vanguard Investments Australia Ltd., Vanguard Fiduciary Trust Company.

Description: Request for Extension of Blanket Authorizations Under Section 203 of the Federal Power Act of The Vanguard Group, Inc., et al.

Filed Date: 7/11/25.

Accession Number: 20250711-5196.

Comment Date: 5 p.m. ET 8/1/25.

Take notice that the Commission received the following exempt wholesale generator filings:

Docket Numbers: EG25-389-000.

Applicants: Casey Fork Solar, LLC.

Description: Casey Fork Solar, LLC submits Notice of Self-Certification of Exempt Wholesale Generator Status.

Filed Date: 7/15/25.

Accession Number: 20250715-5140.

Comment Date: 5 p.m. ET 8/5/25.

Docket Numbers: EG25-390-000.

Applicants: Nevada Cogeneration Associates #2.

Description: Nevada Cogeneration Associates #2 submits Notice of Self-Certification of Exempt Wholesale Generator Status.

Filed Date: 7/16/25.

Accession Number: 20250716-5044.

Comment Date: 5 p.m. ET 8/6/25.

Docket Numbers: EG25-391-000.

Applicants: Westlands Cherry, LLC.

Description: Westlands Cherry, LLC submits Notice of Self-Certification of Exempt Wholesale Generator Status.

Filed Date: 7/16/25.

Accession Number: 20250716-5099.

Comment Date: 5 p.m. ET 8/6/25.

Take notice that the Commission received the following electric rate filings:

Docket Numbers: ER22-2946-004.

Applicants: Red Oak Power, LLC.

Description: Compliance filing: Reactive Service Tariff—PJM Schedule 2 Notice to be effective 9/1/2023.

Filed Date: 7/15/25.

Accession Number: 20250715-5147.

Comment Date: 5 p.m. ET 8/5/25.

Docket Numbers: ER25-1892-000.

Applicants: Midcontinent Independent System Operator, Inc., Union Electric Company.

Description: Refund Report: Union Electric Company submits tariff filing per 35.19a(b): 2025-07-16_SA 2012 Ameren MO (UEC)-California, MO 2nd Rev WDS Refund Report to be effective N/A.

Filed Date: 7/16/25.

Accession Number: 20250716-5111.

Comment Date: 5 p.m. ET 8/6/25.

Docket Numbers: ER25-2856-000.

Applicants: Casey Fork Solar, LLC.

Description: Initial Rate Filing: Market Based Rate to be effective 7/16/2025.

Filed Date: 7/15/25.

Accession Number: 20250715-5145.

Comment Date: 5 p.m. ET 8/5/25.

Docket Numbers: ER25-2857-000.

Applicants: Pacific Gas and Electric Company.

Description: 205(d) Rate Filing: WDT SA 56: Extension to PWRPA SA and IA to be effective 9/23/2025.

Filed Date: 7/16/25.

Accession Number: 20250716-5000.

Comment Date:5 p.m. ET 8/6/25.

Docket Numbers: ER25-2858-000.

Applicants: Iron Springs Solar, LLC.

Description:Initial rate filing: Filing of Shared Facilities Agreement to be effective 9/15/2025.

Filed Date: 7/16/25.

Accession Number: 20250716-5027.

Comment Date: 5 p.m. ET 8/6/25.

Docket Numbers: ER25-2859-000.

Applicants: Iron Springs BESS LLC.

Description: Initial rate filing: Certificate of Concurrence to be effective 9/15/2025.

Filed Date: 7/16/25.

Accession Number: 20250716-5030.

Comment Date: 5 p.m. ET 8/6/25.

Docket Numbers: ER25-2860-000.

Applicants: Red Oak Power, LLC, Strategic PPAV II, LLC.

Description: Red Oak Power, LLC and Strategic PPAV II, LLC request a one-time, limited waiver of the 90-day prior notice requirement set forth in Schedule 2 to the PJM OATT.

Filed Date: 7/16/25.

Accession Number: 20250716-5040.

Comment Date: 5 p.m. ET 8/6/25.

Docket Numbers: ER25-2861-000.

Applicants: Basin Electric Power Cooperative.

Description: Tariff Amendment: Basin Electric Notice of Cancellation of Open Access Transmission Tariff to be effective 7/16/2025.

Filed Date: 7/16/25.

Accession Number: 20250716-5056.

Comment Date: 5 p.m. ET 8/6/25.

Docket Numbers: ER25-2862-000.

Applicants: Basin Electric Power Cooperative.

Description: Tariff Amendment: Basin Electric Notice of Cancellation of Rate Schedules to be effective 7/16/2025.

Filed Date: 7/16/25.

Accession Number: 20250716-5058.

Comment Date: 5 p.m. ET 8/6/25.

Docket Numbers: ER25-2863-000.

Applicants: Basin Electric Power Cooperative.

Description: Tariff Amendment: Basin Electric Notice of Cancellation of MBR Tariff to be effective 7/16/2025.

Filed Date: 7/16/25.

Accession Number: 20250716-5060.

Comment Date: 5 p.m. ET 8/6/25.

Docket Numbers: ER25-2864-000.

Applicants: Basin Electric Power Cooperative.

Description: Tariff Amendment: Basin Electric Notice of Cancellation of Other Tariffs and Agreements to be effective 7/16/2025.

Filed Date: 7/16/25.

Accession Number: 20250716-5062.

Comment Date: 5 p.m. ET 8/6/25.

Docket Numbers: ER25-2865-000.

Applicants: California Independent System Operator Corporation.

Description: 205(d) Rate Filing: 2025-07-16 LGIA Between CAISO, SDG&E and Arlington—Saddle Mountain Solar to be effective 9/15/2025.

Filed Date: 7/16/25.

Accession Number: 20250716-5087.

Comment Date: 5 p.m. ET 8/6/25.

Docket Numbers: ER25-2866-000.

Applicants: Northern States Power Company, a Wisconsin corporation.

Description: 205(d) Rate Filing: 2025-07-16 NSPW ATCO—Devel and Jt Coord Agrmt—LRTP 6-176-0.0.0 Concur to be effective 6/2/2025.

Filed Date: 7/16/25.

Accession Number: 20250716-5106.

Comment Date: 5 p.m. ET 8/6/25.

Docket Numbers: ER25-2867-000.

Applicants: El Paso Electric Company.

Description: 205(d) Rate Filing: Service Agreement No. 423, EPE Long-Term Firm PTP Transmission SA with Tri-State to be effective 9/1/2025.

Filed Date: 7/16/25.

Accession Number: 20250716-5107.

Comment Date: 5 p.m. ET 8/6/25.

Docket Numbers: ER25-2868-000.

Applicants: Faraday Energy Storage LLC.

Description: 205(d) Rate Filing: Certificate of Concurrence to SFA to be effective 9/1/2025.

Filed Date: 7/16/25.

Accession Number: 20250716-5110.

Comment Date: 5 p.m. ET 8/6/25.

Docket Numbers: ER25-2869-000.

Applicants: AEP Texas Inc.

Description: 205(d) Rate Filing: AEPTX-Corpus Battery Storage (Lynx BESS) 1st Amended Gen Interconnection Agr. to be effective 6/23/2025.

Filed Date: 7/16/25.

Accession Number: 20250716-5113.

Comment Date: 5 p.m. ET 8/6/25.

Docket Numbers: ER25-2870-000.

Applicants: Faraday Energy Storage II LLC.

Description: 205(d) Rate Filing: Certificate of Concurrence to SFA to be effective 9/1/2025.

Filed Date: 7/16/25.

Accession Number: 20250716-5117.

Comment Date: 5 p.m. ET 8/6/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: July 16, 2025.
Carlos D. Clay,
Deputy Secretary.

[FR Doc. 2025-13612 Filed 7-18-25; 8:45 am]

BILLING CODE 6717-01-P